DEPARTMENT OF ENERGY

Federal Energy Regulatory Commission

[Docket No. RP00-492-000]

Mid Louisiana Gas Company; Notice of Tariff Filing

August 31, 2000

Take notice that on August 16, 2000, Mid Louisiana Gas Company filed revised tariff sheets to eliminate tariff provisions that are inconsistent with the Commission's decision in Order Nos. 637 and 637-A to remove the rate ceiling for short term capacity release transactions. As mandated by such orders, the revised tariff sheets are to be effective as of March 26, 2000.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22935 Filed 9-6-00; 8:45 am]

BILLING CODE 6717-01-M